SMALL BUSINESS ADMINISTRATION

Interagency Task Force on Veterans Small Business Development

AGENCY: U.S. Small Business Administration.

ACTION: Notice of open Federal Interagency Task Force meeting.

SUMMARY: The SBA is issuing this notice to announce the location, date, time, and agenda for the second public meeting of the Interagency Task Force on Veterans Small Business Development. The meeting will be open to the public.

DATES: Friday, February 25, 2011, from 9 a.m. to 12 Noon in the Eisenhower Conference Room, Side A & B, located on the 2nd floor.

ADDRESSES: U.S. Small Business Administration, 409 3rd Street, SW., Washington, DC 20416.

SUPPLEMENTARY INFORMATION: Pursuant to section 10(a)(2) of the Federal Advisory Committee Act (5 U.S.C., Appendix 2), SBA announces the meeting of the Interagency Task Force on Veterans Small Business Development. The Task Force is established pursuant to Executive Order 13540 and focused on coordinating the efforts of Federal agencies to improve capital, business development opportunities and pre-established Federal contracting goals for small business concerns owned and controlled by veterans (VOB's) and service-disabled veterans (SDVOSB'S). Moreover, the Task Force shall coordinate administrative and regulatory activities and develop proposals relating to “six focus areas”: (1) Access to capital (loans, surety bonding and franchising); (2) Ensure achievement of pre-established contracting goals, including mentor protégé and matching with contracting opportunities; (3) Increase the integrity of certifications of status as a small business; (4) Reducing paperwork and administrative burdens in accessing business development and entrepreneurship opportunities; (5) Increasing and improving training and counseling services; and (6) Making other improvements to support veteran's business development by the Federal Government.

The Interagency Task Force on Veterans Small Business Development shall submit to the President, no later than one year after its first meeting, a report on the performance of its functions and any proposals developed pursuant to the “six focus areas” identified above. The purpose of the meeting is scheduled as a full Task Force meeting. The agenda will include presentations and discussion from the Task Force Subcommittees on their progress regarding the “six focus areas” of the Task Force. In addition, the Task Force will allow time for obtaining public comment from individuals and representatives of organizations regarding the areas of focus.

FOR FURTHER INFORMATION CONTACT: The meeting is open to the public; however, advance notice of attendance is requested. Anyone wishing to attend and/or make a presentation to the Task Force must contact Raymond B. Snyder, by February 21, 2011, by e-mail in order to be placed on the agenda. Comments for the Record should be applicable to the “six focus areas” of the Task Force and e-mailed prior to the meeting for inclusion in the public record; verbal presentations, however, will be limited to five minutes in the interest of time and to accommodate as many presenters as possible.

Written comments should be e-mailed to Raymond B. Snyder, Deputy Associate Administrator, Office of Veterans Business Development, U.S. Small Business Administration, 409 3rd Street, SW., Washington, DC 20416, at the e-mail address for the Task Force, vetstaskforce@sba.gov.

Additionally, if you need accommodations because of a disability or require additional information, please contact Raymond B. Snyder, Designated Federal Official for the Task Force at (202) 205-6773; or by e-mail at: raymond.snyder@sba.gov, SBA, Office of Veterans Business Development, 409 3rd Street, SW., Washington, DC 20416. For more information, please visit our Web site at http://www.sba.gov/vets.

Dated: February 7, 2011.
Dan Jones,
SBA Committee Management Officer.

[FR Doc. 2011-3181 Filed 2-11-11; 8:45 am]

BILLING CODE P